ENVIRONMENTAL PROTECTION AGENCY

[ER-FRL-6631-1]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 12, 2002 (67 FR 17992).

Draft EISs

ERP No. D-AFS-J65360-CO Rating EC1, Lizard Head Road Easement, Application from Private Landowners Requesting a Permit to Cross Public Lands to Access Non-Federal Lands, San Juan National Forest, Dolores Ranger District, Dolores County, CO.

Summary: EPA expressed environmental concerns about the impacts of road construction in roadless areas and development impacts to wetlands. EPA suggests that the final EIS discuss how the potential impacts to these sensitive resources will be minimized and mitigated.

ERP No. D-BLM-K61155-CA Rating EC2, Imperial Sand Dunes Recreation Area, Revising and Updating the Recreation Area Management Plan and Amendment to the California Desert Conservation Area Plan, Imperial County, CA.

Summary: EPA expressed environmental concerns associated with air quality impacts, habitat degradation, habitat fragmentation, and wilderness trespass associated with OHV use; requested additional detail on thresholds and consequences associated with adaptive management; and recommended additional measures to promote energy conservation and pollution minimization.

ERP No. D-NPS-K61156-00 Rating EC2, Lake Mead National Recreation Area, Long-Term Management of Lake Mead and Mohave and Associated Shoreline and Development Area, Lake Management Plan, Clark County, NV and Mohave County, AZ.

Summary: EPA expressed environmental concerns due to projected adverse effects on water quality and aquatic resources. EPA provided comments on construction-related air emissions, pollution prevention opportunities, and hazardous materials, asking that the Final EIS discuss these issues and identify mitigation measures.

Final EISs

ERP No. F-AFS-L65333-OR Five Rivers Watershed Landscape Management Project, Terrestrial and Aquatic Habitat Restoration, Special-Use-Permit Issuance, Siuslaw National Forest, Waldport Ranger District, Lincoln and Lane Counties, OR.

Summary: The final EIS adequately discloses the impacts and satisfactorily responds to most of EPA's comments on the draft EIS. Therefore, EPA has no objection to the action as proposed.

ERP No. F-AFS-L65398-ID Brush Boulder Project, Vegetation Management, Road Construction, Reconstruction and Decommissioning, North Fork Payette River, Boise National Forest, Cascade Ranger District, Valley County, ID.

Summary: No formal comment letter was sent to the preparing agency.

ERP No. F-BLM-J67030-UT EPA expressed environmental concerns with the implementation of long-term treatment controls and mitigation associated with impacts to water quality.

Summary: ERP No. F-FAA-F51048-IL South Suburban Airport, Proposed Site Approval and Land Acquisition for a Future Air Carrier Airport, Will and Kankakee Counties, IL.

Summary: EPA has no adverse comments on the Tier 1 FEIS. EPA encourages the FAA to conduct a thorough analysis and discussion of direct, as well as, cumulative impacts associated with the proposed project in any Tier 2 environmental documentation.

ERP No. F-FHW-D40311-00 US Route 15 Improvement Project, PA-6015, Section G-20 and G-22 Tioga County, Pennsylvania, PIN 6008.22.123 Steuben County, New York and US Route 15 between PA Route 287 and Presho, New York, Funding and US Army COE Section 404 Permit Tioga County, PA and Steuben County, NY.

Summary: EPA continues to express environmental concern about impacts to natural resources as a result of the disposal of fill material generated during construction. EPA and other resource agencies support the acquisition and reforestation of a 100-year floodplain along the Cowanesque River in order to offset any outstanding wetland impacts.

ERP No. F-FHW-F40391-MI M-24 Reconstruction Project, From One Mile North of the Oakland County Line to I-69, Funding, Lapeer County, MI.

Summary: EPA believes that issues raised at the DEIS stage have been adequately addressed. EPA concurs with the selected alternative and is satisfied with mitigation of wetland losses.

ERP No. F-FHW-F40396-IL US 67 (FAP-310) Expressway from Jacksonville to Macomb Transportation Improvements, Funding, US Army COE Section 10 and 404 and NPDES Permits Issuance, Morgan, Cass, Schuyler and McDonough Counties, IL.

Summary: EPA determined that the FEIS adequately addressed its concerns regarding the purpose and need of the project, the choice of alignment alternatives, and groundwater quality impacts. However, EPA remains concerned about the impacts of explosive demolition techniques on the quality of the Illinois River and the direct impacts to the Beardstown Marsh Natural Area. EPA recommends considering alternate alignments or providing funding for special management techniques on nearby sites.

ERP No. F-FHW-G40164-TX President George Bush Turnpike (PGBT) Segment IV, Improvement from I-35E to I-635, Funding and US Army COE Section 404 Permit Issuance, Dallas Dallas County, TX.

Summary: EPA has no further comments to offer. The Final EIS has responded to comments on the Draft EIS.

ERP No. F-TPT-K61154-CA Presidio Trust Implementation Plan (PTIP), An Updated Plan for the Area B of the Presidio of San Francisco, Implementation, San Francisco Bay Area, Marin County, CA.

Summary: The FEIS had adequately addressed EPA's issues raised in our DEIS comment letter.

Dated: July 9, 2002.
Joseph C. Montgomery,
Director, NEPA Compliance Division, Office of Federal Activities.

[FR Doc. 02-17538 Filed 7-11-02; 8:45 am]

BILLING CODE 6560-50-P